OFFICE OF PERSONNEL MANAGEMENT

Excepted Service

AGENCY: Office of Personnel Management (OPM).

ACTION: Notice.

SUMMARY: This notice identifies Schedule A, B, and C appointing authorities applicable to a single agency that were established or revoked from November 1, 2018 to November 30, 2018.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

11. Department of Homeland Security (Sch. A, 213.3111)

(d) General

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: Security (GS-0080), intelligence analysts (GS-0123), investigators (GS-1810), investigative analysts (GS-1805), and criminal investigators (GS-1811) at the General Schedule (GS) grade levels 09-15. No new appointments may be made under this authority after January 5, 2020 or the effective date of the completion of regulations implementing the Border Patrol Agency Pay Reform Act of 2014 or, whichever comes first.

Schedule B

No Schedule B Authorities to report during November 2018.

Schedule C

The following Schedule C appointing authorities were approved during November 2018.

Agency name | Organization name | Position title | Authorization No. | Effective date
DEPARTMENT OF AGRICULTURE | Office of the Assistant Secretary for Congressional Relations | Associate Director | DA180236 | 11/26/2018
|  | Staff Assistant | DA180255 | 11/26/2018
| Office of the Secretary | Advance Associate | DA180263 | 11/26/2018
|  | Deputy Chief of Staff for Outreach | DA180264 | 11/26/2018
|  | Policy Advisor | DA190011 | 11/26/2018
| Office of the Under Secretary for Farm Production and Conservation | Confidential Assistant | DA190013 | 11/28/2018
DEPARTMENT OF COMMERCE | Office of the Assistant Secretary for Enforcement and Compliance | Senior Advisor | DC190009 | 11/19/2018
| Office of Minority Business Development Agency | Special Advisor for Strategic Initiatives | DC190018 | 11/30/2018
| Office of the Assistant Secretary for Economic Development | Legislative Affairs Specialist | DC190010 | 11/19/2018
| Office of the Deputy Assistant Secretary | Special Assistant | DC190014 | 11/26/2018
| Office of the Deputy Secretary | Senior Advisor | DC190015 | 11/19/2018
DEPARTMENT OF DEFENSE | Office of the Deputy Under Secretary of Defense (Asian and Pacific Security Affairs) | Special Assistant (East Asia) | DD190003 | 11/05/2018
| Office of the Assistant Secretary of Defense (Asian and Pacific Security Affairs) | Special Assistant (East Asia) | DD190004 | 11/05/2018
| Office of the Assistant Secretary of Defense (Legislative Affairs) | Special Assistant (Legislative Affairs) | DD190005 | 11/05/2018
| Office of the Secretary of Defense | Advance Officer | DD190018 | 11/19/2018
| Office of the Under Secretary of Defense (Acquisition, Technology, and Logistics) | Special Assistant (Acquisition and Sustainment) | DD190009 | 11/19/2018
|  | Special Assistant for Engineering and Technology | DD190012 | 11/19/2018
| Washington Headquarters Services | Defense Fellow (2) | DD190002 | 11/15/2018
|  |  | DD190013 | 11/30/2018
DEPARTMENT OF EDUCATION | Office of Communications and Outreach | Special Assistant | DB190004 | 11/14/2018
|  | Confidential Assistant | DB190013 | 11/30/2018
| Office of Elementary and Secondary Education | Confidential Assistant for Policy | DB190015 | 11/27/2018
| Office of the Deputy Secretary | Special Assistant | DB190012 | 11/26/2018
DEPARTMENT OF ENERGY | Office of the Assistant Secretary for Congressional and Intergovernmental Affairs | Director of Intergovernmental and External Affairs | DE190008 | 11/26/2018
| Office of the Assistant Secretary for International Affairs | Chief of Staff | DE190019 | 11/26/2018
ENVIRONMENTAL PROTECTION AGENCY | Office of the Administrator | Senior Advisor for Strategic Initiatives | EP190005 | 11/26/2018
| Office of the Associate Administrator for Congressional and Intergovernmental Relations | Director of Intergovernmental Affairs | EP190012 | 11/27/2018
FEDERAL ENERGY REGULATORY COMMISSION | Office of the Chairman | Policy Advisor | DR190001 | 11/06/2018
GENERAL SERVICES ADMINISTRATION | Office of the Administrator | Special Assistant | GS190007 | 11/19/2018
| Office of Congressional and Intergovernmental Affairs | Congressional Policy Analyst | GS190008 | 11/26/2018
DEPARTMENT OF HEALTH AND HUMAN SERVICES | Centers for Medicare and Medicaid Services | Deputy Director of Communications | DH190021 | 11/16/2018
| Office of Intergovernmental and External Affairs | Regional Director, Dallas, TX, Region VI | DH190022 | 11/21/2018
| Office of the National Coordinator for Health Information Technology | Senior Advisor for Health Information Technology | DH190002 | 11/19/2018
| Office of the Secretary | Special Assistant | DH190024 | 11/19/2018
DEPARTMENT OF HOMELAND SECURITY | Office of the Assistant Secretary for Public Affairs | Assistant Press Secretary | DM190012 | 11/05/2018
|  | Speechwriter | DM190016 | 11/06/2018
|  | Press Assistant | DM190021 | 11/20/2018
| Office of the Secretary | White House Liaison | DM190019 | 11/19/2018
DEPARTMENT OF HOUSING AND URBAN DEVELOPMENT | Office of Public Affairs | Special Assistant | DU190011 | 11/19/2018
| Office of the General Counsel | Paralegal Specialist | DU190013 | 11/30/2018
| Office of Field Policy and Management | Special Assistant | DU190014 | 11/30/2018
DEPARTMENT OF THE INTERIOR | Secretary's Immediate Office | Press Secretary | DI180110 | 11/19/2018
|  | Assistant | DI180112 | 11/19/2018
DEPARTMENT OF JUSTICE | Office of Public Affairs | Lead Media Affairs Coordinator | DJ180148 | 11/05/2018
| Office of Justice Programs | Senior Advisor | DJ180136 | 11/15/2018
| Office of Legislative Affairs | Confidential Assistant | DJ180153 | 11/26/2018
NATIONAL AERONAUTICS AND SPACE ADMINISTRATION | Office of Legislative and Intergovernmental Affairs | Legislative Affairs Specialist | NN190002 | 11/15/2018
OFFICE OF MANAGEMENT AND BUDGET | Office of Legislative Affairs | Deputy for Legislative Affairs (Senate) | BO190002 | 11/28/2018
OFFICE OF PERSONNEL MANAGEMENT | Office of the Director | Special Assistant | PM190005 | 11/19/2018
DEPARTMENT OF STATE | Bureau of Legislative Affairs | Special Assistant | DS190009 | 11/21/2018
| Office of the Counselor | Staff Assistant | DS190010 | 11/26/2018
DEPARTMENT OF THE TREASURY | Office of the Assistant Secretary (Public Affairs) | Public Affairs Coordinator | DY190008 | 11/09/2018
| Secretary of the Treasury | Special Assistant | DY190010 | 11/09/2018

The following Schedule C appointing authorities were revoked during November 2018.

Agency name | Organization name | Position title | Request No. | Date vacated
COMMODITY FUTURES TRADING COMMISSION | Office of Public Affairs | Public Affairs Specialist | CT170013 | 11/30/2018
DEPARTMENT OF COMMERCE | Bureau of Industry and Security | Senior Counselor | DC180182 | 11/10/2018
| Office of Scheduling and Advance | Advance Assistant | DC180076 | 11/10/2018
DEPARTMENT OF EDUCATION | Office of the General Counsel | Attorney Adviser | DB170132 | 11/18/2018
DEPARTMENT OF ENERGY | Office of Advanced Research Projects Agency—Energy | Senior Advisor and Chief of Staff | DE170187 | 11/10/2018
|  | Principal Deputy Director | DE180081 | 11/10/2018
|  | Executive Support Specialist | DE180090 | 11/24/2018
| Office of the Assistant Secretary for Electricity Delivery and Energy Reliability | Chief of Staff | DE180045 | 11/10/2018
| Office of Assistant Secretary for International Affairs | Senior Advisor and Chief of Staff | DE170224 | 11/10/2018
| Office of the Associate Under Secretary for Environment, Health, Safety, and Security | Senior Advisor—Veterans Relations | DE170218 | 11/01/2018
|  | Senior Project Advisor | DE170219 | 11/13/2018
DEPARTMENT OF HEALTH AND HUMAN SERVICES | Office of the Secretary | Advisor to the Chief Technology Officer | DH180095 | 11/01/2018
|  | Senior Policy Advisor | DH180214 | 11/04/2018
| Office of the Assistant Secretary for Legislation | Advisor | DH180141 | 11/16/2018
| Office of the Assistant Secretary for Health | Advisor | DH180210 | 11/24/2018
| Office of Substance Abuse and Mental Health Services Administration | Director of Communications | DH180112 | 11/24/2018
DEPARTMENT OF HOMELAND SECURITY | Office of the Assistant Secretary for Intergovernmental Affairs | Confidential Assistant | DM170239 | 11/10/2018
DEPARTMENT OF JUSTICE | Office of Legislative Affairs | Attorney Advisor | DJ170077 | 11/03/2018
| Office of Justice Programs | Senior Advisor to the Assistant Attorney General | DJ170177 | 11/10/2018
| Office of Public Affairs | Confidential Assistant | DJ170080 | 11/10/2018
DEPARTMENT OF TRANSPORTATION | Office of the Administrator | Director of Communications | DT170101 | 11/03/2018
ENVIRONMENTAL PROTECTION AGENCY | Office of the Chief Financial Officer | Special Advisor for Budgets and Audits | EP180013 | 11/10/2018
OFFICE OF MANAGEMENT AND BUDGET | Office of Natural Resource Programs | Confidential Assistant | BO170054 | 11/04/2018
OFFICE OF THE UNITED STATES TRADE REPRESENTATIVE | Office of Congressional Affairs | Senior Director for Congressional Affairs | TN170017 | 11/11/2018

Authority: 5 U.S.C. 3301 and 3302; E.O. 10577, 3 CFR, 1954-1958 Comp., p. 218.

Office of Personnel Management.
Alexys Stanley,
Regulatory Affairs Analyst.

[FR Doc. 2019-11228 Filed 5-29-19; 8:45 am]

BILLING CODE 6325-39-P